Proclamation 10464 of September 30, 2022

National Community Policing Week, 2022

By the President of the United States of America

A Proclamation

Public trust is the foundation of public safety. Without trust in law enforcement, victims do not call for help, witnesses do not step forward, crimes go unsolved, and justice is not served. When police officers build trust with the public, they make our communities safer and our Nation more secure. This is the essence of community policing. This week, we reaffirm that safe, effective, and accountable community policing is the gold standard for law enforcement and recommit to supporting officers with the resources they need to do their jobs successfully and responsibly.

Police officers swear an oath to protect us from harm, uphold the rule of law, and serve their communities. While this job has always demanded excellence, working in law enforcement today is harder than it has ever been. Officers are expected to be everything all at once—from rescuing citizens from natural disasters, accidents, and crime to serving as counselors to people experiencing a mental health or substance use crisis. Law enforcement is noble and dangerous work that requires adequate resources and collaboration from community stakeholders.

That is why my Administration is helping officers tackle the complex challenges they face on the job each day while building public trust in the process. Through my Administration's American Rescue Plan, we secured historic funding to help States and cities hire officers for safe, accountable, and effective community policing, crime prevention, and intervention. We committed more Federal resources to support State and local law enforcement in 2021 than almost any other year on record. This year, through a bipartisan budget deal, we secured over $511 million for the Department of Justice's Community Oriented Policing Services Office. And my Administration has awarded Department of Justice (DOJ) grants to State, local, territorial, and Tribal law enforcement agencies to hire community policing professionals, to develop and test innovative policing strategies, and to provide training on collaborative policing approaches. I have also called for increased support for the DOJ's Project Safe Neighborhoods, which brings together law enforcement officials, prosecutors, community leaders, and other stakeholders to produce local solutions to violent crime.

Additionally, this year I was proud to sign an Executive Order to help build trust between law enforcement and communities across America and enhance public safety. It calls for a fresh approach to recruiting, training, retaining, and recognizing officers who embody and exemplify the highest standards of the profession. The Executive Order mandates that all Federal agents wear and activate body cameras while on patrol, directs agencies to promote officer wellness, and creates a new national law enforcement accountability database in which all Federal law enforcement agencies must participate. This database will include records of officer misconduct as well as commendations and awards.

There is still much more we can do. This summer, I outlined my Administration's Safer America Plan—an investment in police who walk the beat, know the neighborhood, and are accountable to those they are sworn to serve and protect. This plan would help State and local police departments recruit, hire, and train 100,000 additional officers for safe, effective, and accountable community policing consistent with the standards in the Executive Order I signed. It would also help States, cities, Tribes, and territories increase mental health and substance use disorder services and crisis responders for non-violent situations to reduce the burden on police officers. This action builds on my Administration's work to help States establish “Mobile Crisis Intervention Teams” that provide individuals experiencing a mental health or substance use crisis with rapid access to mental health professionals. My Safer America Plan will also address the root causes of crime and the burden on officers so they can focus on policing by investing $20 billion in housing, job training, reentry, youth enrichment, and other stabilizing social services.

I believe the vast majority of Americans want the same things from law enforcement: trust, safety, and accountability. Effective community policing can lower incidents of violent crime, decrease the occurrences of unjustified uses of force, build trust and community, and help address the long-standing inequities in our criminal justice system, which disproportionately affect people of color and people with disabilities.

During National Community Policing Week, I call on communities across our Nation to invest in strengthening relationships between officers and the individuals they serve and protect. I also encourage local residents, business owners, and other community stakeholders to collaborate with law enforcement, identify initiatives that will help build mutual trust, and help prevent crime. When Americans work together with common purpose and with mutual trust and respect, we can make this Nation stronger and keep our people safer.

NOW, THEREFORE, I, JOSEPH R. BIDEN JR., President of the United States of America, by virtue of the authority vested in me by the Constitution and the laws of the United States, do hereby proclaim October 2 through October 8, 2022, as National Community Policing Week. I call upon law enforcement agencies, elected officials, and all Americans to observe this week by recognizing ways to improve public safety, build trust, and strengthen community relationships.

IN WITNESS WHEREOF, I have hereunto set my hand this thirtieth day of September, in the year of our Lord two thousand twenty-two, and of the Independence of the United States of America the two hundred and forty-seventh.

[FR Doc. 2022-21789

Filed 10-4-22; 8:45 am]

Billing code 3395-F3-P